DEPARTMENT OF STATE

[Public Notice: 10752]

Meeting of the United States-Korea Environmental Affairs Council and Environmental Cooperation Commission

ACTION: Notice of the third meetings of the Environmental Affairs Council, established pursuant to the United States-Korea Free Trade Agreement and of the Environmental Cooperation Commission established under the United States-Korea Environmental Cooperation Agreement, and request for comments.

SUMMARY: The U.S. Department of State and the Office of the United States Trade Representative (USTR) are providing notice that the United States and the Republic of Korea (Korea) intend to hold the third meetings of the Environmental Affairs Council (EAC) and Environmental Cooperation Commission (ECC) in Washington, DC, on May 13 and 14, 2019.

DATES: The EAC and ECC meetings will be held on May 13-14, 2019, in Washington, DC, at the U.S. Department of State. Written comments and suggestions should be submitted no later than May 10, 2019, to facilitate consideration.

ADDRESSES: Written comments and suggestions should be submitted to both: (1) Tiffany Prather, Office of Environmental Quality and Transboundary Issues, U.S. Department of State, by electronic mail to PratherTA@state.gov with the subject line “U.S.-Korea EAC/ECC Meetings”; and

(2) Maureen Hinman, Office of Environment and Natural Resources, Office of the United States Trade Representative, by electronic mail to Maureen.E.Hinman@ustr.eop.gov with the subject line “U.S.-Korea EAC/ECC Meetings.”

If you have access to the internet, you can view and comment on this notice by going to: http://www.regulations.gov/#!home and searching on its Public Notice number: [DOS-2019-0008].

FOR FURTHER INFORMATION CONTACT: Tiffany Prather, telephone (202) 647-4548, or Maureen Hinman, telephone (202) 395-9501.

SUPPLEMENTARY INFORMATION: During the EAC meeting, the United States and Korea (collectively the Parties) will discuss their respective implementation of and progress under the Environment Chapter (Chapter 20) of the United States-Korea Free Trade Agreement (FTA). During the ECC meeting, the Parties will review the results of environmental cooperation under the 2016-2018 Work Program. The Parties also expect to approve a new 2019-2021 Work Program. All interested persons are invited to attend a public session on May 14, 2019, following the EAC and ECC meetings where they will have the opportunity to ask questions and discuss implementation of Chapter 20 and U.S.-Korean environmental cooperation with Council and Commission Members. For further information, please contact Tiffany Prather or Maureen Hinman.

The Department of State and USTR invite interested organizations and members of the public to submit written comments or suggestions regarding implementation of Chapter 20, the Work Programs, the meeting agendas, or any issues that should be discussed at the meetings. In preparing comments or suggestions, submitters are encouraged to refer to: (1) The Environment Chapter of the United States-Korea FTA; (2) the United States-Korea Environmental Cooperation Agreement (ECA); (3) the United States-Korea Environmental Cooperation Commission 2016-2018 Work Program; and (4) the Final Environmental Review of the United States-Korea Free Trade Agreement. These documents are available at www.state.gov/e/oes/eqt/trade/c49687.htm

Article 20.6.1 of the United States-Korea FTA establishes an EAC, which oversees implementation of Chapter 20. The United States and Korea established the ECC when they signed the ECA, negotiated in concert with the FTA, on January 23, 2012. In Articles 3 and 4 of the ECA, the Parties state that they plan to meet to develop and update, as appropriate, a Work Program for Environmental Cooperation. The Work Program will identify and outline environmental cooperation priorities, on-going efforts, and possibilities for future cooperation.

Please refer to the Department of State website at www.state.gov/e/oes/eqt/trade/c49687.htm and the USTR website at www.ustr.gov for more information.

Brian P. Doherty,
Director, Office of Environmental Quality and Transboundary Issues, Department of State.

[FR Doc. 2019-08490 Filed 4-26-19; 8:45 am]

BILLING CODE 4710-09-P